DEPARTMENT OF LABOR

Office of the Secretary

Submission for OMB Review; Comment Request

July 12, 2007.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number)/email: king.darrin@dol.gov.

Comments should be sent to Office of Information and Regulatory Affairs, Attn: OMB Desk Officer for the Employment Standards Administration (ESA), Office of Management and Budget, Room 10235, Washington, DC 20503, Telephone: 202-395-7316/Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension without change of currently approved collection.

Title: Request for State or Federal Workers' Compensation Information.

OMB Number: 1215-0060.

Form Number: CM-905.

Frequency: On occasion.

Type of Response: Reporting.

Affected Public: State, Local, or Tribal governments.

Estimated Number of Respondents: 1,400.

Estimated Number of Annual Responses: 1,400

Estimated Average Response Time: 15 minutes.

Estimated Total Annual Burden Hours: 350.

Total Estimated Annualized capital/startup costs: $0.

Total Estimated Annual Costs (operating/maintaining systems or purchasing services): $616.

Description: The Form CM-905 is submitted to Federal or state agencies for completion when it is indicated that the beneficiary has filed a claim for workers' compensation benefits due to pneumoconiosis, or is receiving benefits that may need to be offset. The information is used by DOL claims examiners in determining the amounts of black lung benefits paid to beneficiaries. Benefit amounts are reduced, dollar for dollar, for other black lung related workers' compensation awards the beneficiary may be receiving from state or Federal programs.

Agency: Employment Standards Administration.

Type of Review: Extension without change of currently approved collection.

Title: Labor Standards for Federal Service Contracts—Regulations 29 CFR, Part 4.

OMB Number: 1215-0150.

Form Numbers: N/A.

Frequency: Annually.

Type of Response: Reporting and Recordkeeping.

Affected Public: Business and other for-profit.

Estimated Number of Respondents: 50,812.

Estimated Number of Annual Responses: 50,812.

Estimated Average Response Time: 1 hour to prepare a vacations benefit seniority list; 30 minutes to prepare a conformance record; and 5 minutes to transmit collective bargaining agreements.

Estimated Total Annual Burden Hours: 49,220.

Total Annualized capital/startup costs: $0.

Total Annual Costs (operating/maintaining systems or purchasing services): $0.

Description: Section 2(a) of the Service Contract Act (41 U.S.C. 351) provides that every contract subject to the Act must contain a provision specifying the minimum monetary wages and fringe benefits to be paid to the various classes of service employees performing work on the contract. This information collection pertains to records needed to determine an employee's seniority for purposes of determining any vacation benefit, to conform wage rates where they do not appear on a wage determination (WD), and to update WDs because of changing terms in a collective bargaining agreement.

Darrin A. King,
Acting Departmental Clearance Officer.

[FR Doc. E7-13876 Filed 7-17-07; 8:45 am]

BILLING CODE 4510-CF-P